NUCLEAR REGULATORY COMMISSION

Advisory Committee on Reactor Safeguards Joint Meeting of the ACRS Subcommittees on Materials and Metallurgy, Thermal-Hydraulic Phenomena, and Reliability and Probabilistic Risk Assessment; Revised

The ACRS Subcommittees on Materials and Metallurgy, Thermal-Hydraulic Phenomena, and Reliability and Probabilistic Risk Assessment will hold a joint meeting on March 16, 2001, Room T-2B3, 11545 Rockville Pike, Rockville, Maryland. The agenda for this meeting has been revised to include a discussion of the proposed final ACRS report on the NRC Safety Research Program between 8:30 and 9:30 a.m. Notice of this meeting was published in the Federal Register on Thursday, March 1, 2001 (66 FR 12964). All other items pertaining to this meeting remain the same as previously published.

For further information contact: Mr. Michael T. Markley, cognizant ACRS staff engineer, (telephone 301/415-6885) between 7:30 a.m. and 4:15 p.m. (EST).

Dated: March 6, 2001.
James E. Lyons,
Associate Director for Technical Support, ACRS/ACNW.

[FR Doc. 01-6046 Filed 3-9-01; 8:45 am]

BILLING CODE 7590-01-P